JUDICIAL CONFERENCE OF THE UNITED STATES

Meeting of the Judicial Conference Advisory Committee on Rules of Evidence

AGENCY: Judicial Conference of the United States, Advisory Committee on Rules of Evidence.

ACTION: Notice of open meeting.

SUMMARY: the Advisory Committee on Rules of Evidence will hold a one-day meeting. The meeting will be open to public observation but not participation.

DATES: April 25, 2003.

TIME: 8:30 a.m. to 5 p.m.

ADDRESSES: Thurgood Marshall Federal Judiciary Building, Judicial Conference Center, One Columbus Circle, NE., Washington, DC

FOR FURTHER INFORMATION CONTACT: John K. Rabiej, Chief, Rules Committee of the United States Courts, Washington, DC 20544, telephone (202) 502-1820.

John K. Rabief,
Chief, Rules Committee Support Office.

[FR Doc. 03-6294 Filed 3-14-03; 8:45 am]

BILLING CODE 2219-55-M